DEPARTMENT OF ENERGY

Office of Science; Fusion Energy Sciences Advisory Committee

AGENCY: Department of Energy.

ACTION: Notice of Open Meeting.

SUMMARY: This notice announces a meeting of the Fusion Energy Sciences Advisory Committee. The Federal Advisory Committee Act (Pub. L. 92-463, 86 Stat. 770) requires that public notice of these meetings be announced in the Federal Register.

DATES: Tuesday, January 13, 2009, 9 a.m. to 6:30 p.m. and Wednesday, January 14, 2009, 9 a.m. to noon.

ADDRESSES: The Gaithersburg Hilton, 620 Perry Parkway, Gaithersburg, Maryland 20877, USA.

FOR FURTHER INFORMATION CONTACT: Albert L. Opdenaker, Office of Fusion Energy Sciences; U.S. Department of Energy; 1000 Independence Avenue, SW.; Washington, DC 20585-1290; Telephone: 301-903-4927.

SUPPLEMENTARY INFORMATION: Purpose of the Meeting: The purpose of the meeting will be to complete two charges: one on High Energy Density Laboratory Plasmas and one that asked FESAC to review the Fusion Energy Sciences Strategic Plan Overview which is scheduled to be sent to Congress by March 1, 2009.

Tentative Agenda

Tuesday, January 13, 2009

• Office of Science Perspectives.

• OFES Program Perspectives.

• Final Report on the High Energy Density Plasma Charge.

• Report on FESAC Review of the Strategic Plan Overview.

• Use of Technical Readiness Levels in Planning the Fusion Program.

• Use of Technical Readiness Levels at Boeing.

• Public Comments.

• Adjourn.

Wednesday, January 14, 2009

• Status Report on the Research Needs Workshop Activities.

• Preparation of Letters to DOE/SC.

• Adjourn.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). Reasonable provision will be made to include the scheduled oral statements on the agenda. The Chairperson of the Committee will conduct the meeting to facilitate the orderly conduct of business. Public comment will follow the 10-minute rule. This notice is being published less than 15 days before the date of the meeting due to programmatic issues.

Minutes: The minutes of the meeting will be available on the U.S. Department of Energy's Office of Fusion Energy Sciences Web site (http://www.science.doe.gov/ofes/).

Issued at Washington, DC, on December 23, 2008.
Rachel Samuel,
Deputy Committee Management Officer.

[FR Doc. E8-30970 Filed 12-29-08; 8:45 am]

BILLING CODE 6450-01-P